FEDERAL COMMUNICATIONS COMMISSION

[FR ID 132141]

Deletion of Additional Items From March 16, 2023 Open Meeting

March 14, 2023.

The following items were adopted by the Commission on March 14, 2023 and deleted from the list of items scheduled for consideration at the Thursday, March 16, 2023, Open Meeting. The items were previously listed in the Commission's Sunshine Notice on Thursday, March 9, 2023.

Item No. | Bureau | Subject
7 | Enforcement | Title: Enforcement Bureau Action. Summary: The Commission will consider an enforcement action.
8 | Enforcement | Title: Enforcement Bureau Action. Summary: The Commission will consider an enforcement action.

Federal Communications Commission.
Marlene Dortch,
Secretary.

[FR Doc. 2023-05555 Filed 3-17-23; 8:45 am]

BILLING CODE 6712-01-P